DEPARTMENT OF HOMELAND SECURITY

Coast Guard

33 CFR Part 117

[Docket No. USCG-2010-1096]

Drawbridge Operation Regulations; New Haven Harbor, Quinnipiac and Mill Rivers, New Haven, CT

AGENCY: Coast Guard, DHS.

ACTION: Notice of temporary deviation from regulations.

SUMMARY: The Commander, First Coast Guard District, has issued a temporary deviation from the regulation governing the operation of the Ferry Street Bridge across the Quinnipiac River, mile 0.7, at New Haven, Connecticut. The deviation allows the bridge to keep one lift span closed to facilitate scheduled bridge maintenance.

DATES: This deviation is effective from 8 a.m. on January 3, 2011 through 5 p.m. on January 13, 2011.

ADDRESSES: Documents mentioned in this preamble as being available in the docket are part of docket USCG-2010-1096 and are available online at http://www.regulations.gov, inserting USCG-2010-1096 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Ms. Judy Leung-Yee, Project Officer, First Coast Guard District, judy.k.leung-yee@uscg.mil, or telephone (212) 668-7165. If you have questions on viewing the docket, call Renee V. Wright, Program Manager, Docket Operations, telephone 202-366-9826.

SUPPLEMENTARY INFORMATION: The Ferry Street Bridge, across the Quinnipiac River at mile 0.7, at New Haven, Connecticut, has a vertical clearance in the closed position of 25 feet at mean high water and 31 feet at mean low water. The drawbridge operation regulations are listed at 33 CFR 117.213.

The owner of the bridge, the City of New Haven, requested a temporary deviation from the regulations to facilitate scheduled bridge maintenance, replacing pinion couplings and brakes at the bridge.

Under this temporary deviation the Ferry Street Bridge may keep one lift span in the closed position from 8 a.m. on January 3, 2011 through 5 p.m. on January 6, 2011, and from 8 a.m. on January 10, 2011 through 5 p.m. on January 13, 2011. One lift span shall remain operational at all times.

In accordance with 33 CFR 117.35(e), the bridge must return to its regular operating schedule immediately at the end of the designated time period. This deviation from the operating regulations is authorized under 33 CFR 117.35.

Dated: December 17, 2010.
Gary Kassof,
Bridge Program Manager, First Coast Guard District.

[FR Doc. 2010-33118 Filed 12-30-10; 8:45 am]

BILLING CODE 9110-04-P